DEPARTMENT OF ENERGY

Federal Energy Regulatory Commission

Combined Notice of Filings #1

Take notice that the Commission received the following electric corporate filings:

Docket Numbers: EC18-52-000.

Applicants: Colton Power L.P., Harbor Cogeneration Company, LLC.

Description: Application for Authorization Under FPA Section 203 for the Disposition of Jurisdictional Facilities, et al. of Colton Power L.P., et al.

Filed Date: 2/5/18.

Accession Number: 20180205-5160.

Comments Due: 5 p.m. ET 2/26/18.

Docket Numbers: EC18-53-000.

Applicants: Duke Energy Ohio, Inc.

Description: Application for Authorization under Section 203 of Duke Energy Ohio, Inc.

Filed Date: 2/6/18.

Accession Number: 20180206-5076.

Comments Due: 5 p.m. ET 2/27/18.

Take notice that the Commission received the following exempt wholesale generator filings:

Docket Numbers: EG18-44-000.

Applicants: Carlsbad Energy Center LLC.

Description: Notice of Self-Certification of Exempt Wholesale Generator Status.

Filed Date: 2/6/18.

Accession Number: 20180206-5112.

Comments Due: 5 p.m. ET 2/27/18.

Take notice that the Commission received the following electric rate filings:

Docket Numbers: ER18-802-000.

Applicants: Midcontinent Independent System Operator, Inc.

Description: § 205(d) Rate Filing: 2018-02-05_SA 3096 Point Beach Solar-ATC GIA (J505) to be effective 1/22/2018.

Filed Date: 2/5/18.

Accession Number: 20180205-5138.

Comments Due: 5 p.m. ET 2/26/18.

Docket Numbers: ER18-803-000.

Applicants: EDF Trading North America, LLC.

Description: § 205(d) Rate Filing: Revised 2018 to be effective 2/6/2018.

Filed Date: 2/5/18.

Accession Number: 20180205-5140.

Comments Due: 5 p.m. ET 2/26/18.

Docket Numbers: ER18-804-000.

Applicants: EDF Energy Services, LLC.

Description: § 205(d) Rate Filing: Revised 2018 to be effective 2/6/2018.

Filed Date: 2/5/18.

Accession Number: 20180205-5143.

Comments Due: 5 p.m. ET 2/26/18.

Docket Numbers: ER18-805-000.

Applicants: EDF Industrial Power Services (CA), LLC.

Description: § 205(d) Rate Filing: Revised 2018 to be effective 2/6/2018.

Filed Date: 2/5/18.

Accession Number: 20180205-5145.

Comments Due: 5 p.m. ET 2/26/18.

Docket Numbers: ER18-806-000.

Applicants: Midcontinent Independent System Operator, Inc.

Description: § 205(d) Rate Filing: 2018-02-05_Attachment FF Consolidation and True-Up Filing to be effective 12/6/2017.

Filed Date: 2/5/18.

Accession Number: 20180205-5148.

Comments Due: 5 p.m. ET 2/26/18.

Docket Numbers: ER18-807-000.

Applicants: Pinal Central Energy Center, LLC.

Description: Baseline eTariff Filing: Pinal Central Energy Center, LLC Application for Market-Based Rates to be effective 3/15/2018.

Filed Date: 2/5/18.

Accession Number: 20180205-5157.

Comments Due: 5 p.m. ET 2/26/18.

Docket Numbers: ER18-808-000.

Applicants: PJM Interconnection, L.L.C.

Description: Tariff Cancellation: Notice of Cancellation of WMPA SA No. 4042; Queue No. Y3-109 to be effective 1/17/2018.

Filed Date: 2/5/18.

Accession Number: 20180205-5158.

Comments Due: 5 p.m. ET 2/26/18.

Docket Numbers: ER18-809-000.

Applicants: FirstEnergy Solutions Corp.

Description: Request of FirstEnergy Solutions Corp. for Authorization to Make Wholesale Power Sales to its Affiliate, The Potomac Edison Company.

Filed Date: 2/5/18.

Accession Number: 20180205-5162.

Comments Due: 5 p.m. ET 2/26/18.

Docket Numbers: ER18-810-000.

Applicants: FirstEnergy Solutions Corp.

Description: FirstEnergy Solutions Corp. Request for Authorization to Make Wholesale Power Sales to Affiliate, West Penn Power.

Filed Date: 2/5/18.

Accession Number: 20180205-5171.

Comments Due: 5 p.m. ET 2/26/18.

Docket Numbers: ER18-812-000.

Applicants: Public Service Company of New Hampshire.

Description: Notice of Cancellation of letter agreement (Rate Schedule No. 178) of Public Service Company of New Hampshire.

Filed Date: 2/5/18.

Accession Number: 20180205-5177.

Comments Due: 5 p.m. ET 2/26/18.

Docket Numbers: ER18-813-000.

Applicants: PacifiCorp.

Description: § 205(d) Rate Filing: UAMPS Construction Agmt ? St. George 4th Circuit Energization to be effective 4/9/2018.

Filed Date: 2/6/18.

Accession Number: 20180206-5075.

Comments Due: 5 p.m. ET 2/27/18.

Docket Numbers: ER18-814-000.

Applicants: Carlsbad Energy Center LLC.

Description: Baseline eTariff Filing: Application for Market-Based Rate Authorization and Request for Waivers to be effective 2/7/2018.

Filed Date: 2/6/18.

Accession Number: 20180206-5077.

Comments Due: 5 p.m. ET 2/27/18.

Docket Numbers: ER18-815-000.

Applicants: PJM Interconnection, L.L.C.

Description: § 205(d) Rate Filing: Revisions to Tariff, Attachment Q RE: Regulation Resource Credit to be effective 4/9/2018.

Filed Date: 2/6/18.

Accession Number: 20180206-5120.

Comments Due: 5 p.m. ET 2/27/18.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: February 6, 2018.
Kimberly D. Bose,
Secretary.

[FR Doc. 2018-02777 Filed 2-9-18; 8:45 am]

BILLING CODE 6717-01-P